SECURITIES AND EXCHANGE COMMISSION

[File No. 500-1]

Olie, Inc. and Hi Score Corp.; Order of Suspension of Trading

January 27, 2014.

It appears to the Securities and Exchange Commission that there is a lack of current and accurate information concerning the securities of Olie, Inc. and Hi Score Corp. There are questions regarding the accuracy of publicly available information about both companies' assets, acquisitions, business activities, control persons, securities offerings, and financing arrangements. Olie, Inc. is a Delaware corporation with its principal place of business in Vancouver, Canada. Olie, Inc.'s common stock is quoted on OTC Link operated by OTC Markets Group Inc. (“OTC Link”) under the ticker symbol OLIE. Hi Score Corp. is a Florida corporation with its principal place of business in Sunrise, Florida. Hi Score Corp.'s common stock is quoted on OTC Link under the ticker symbol HSCO.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on January 27, 2014, through 11:59 p.m. EST on February 7, 2014.

By the Commission.
Jill M. Peterson,
Assistant Secretary.

[FR Doc. 2014-01836 Filed 1-27-14; 11:15 am]

BILLING CODE 8011-01-P